DEPARTMENT OF TRANSPORTATION

Federal Aviation Administration

14 CFR Part 39

[Docket No. 98-NM-313-AD; Amendment 39-11767; AD 2000-11-19]

RIN 2120-AA64

Airworthiness Directives; Boeing Model 767-200 and -300 Series Airplanes

AGENCY: Federal Aviation Administration, DOT.

ACTION: Final rule.

SUMMARY: This amendment adopts a new airworthiness directive (AD), applicable to certain Boeing Model 767-200 and -300 series airplanes, that requires repetitive inspections to detect wear or damage of the door latches and disconnect housings in the off-wing escape slide compartments, and replacement of any discrepant component with a new component. This amendment is prompted by reports of worn and damaged door latches and disconnect housings in the off-wing escape slide compartments. The actions specified by this AD are intended to ensure deployment of an escape slide during an emergency evacuation. Non-deployment of an escape slide during an emergency could slow down the evacuation of the airplane and result in injury to passengers or flightcrew. The actions specified by this AD are also intended to detect damaged disconnect housings in the off-wing escape slide compartments, which could result in unexpected deployment of an escape slide during maintenance, and consequent injury to maintenance personnel.

DATES: Effective July 18, 2000.

The incorporation by reference of certain publications listed in the regulations is approved by the Director of the Federal Register as of July 18, 2000.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Jim Cashdollar, Aerospace Engineer, Airframe Branch, ANM-120S, FAA, Transport Airplane Directorate, Seattle Aircraft Certification Office, 1601 Lind Avenue, SW., Renton, Washington 98055-4056; telephone (425) 227-2785; fax (425) 227-1181.

SUPPLEMENTARY INFORMATION: A proposal to amend part 39 of the Federal Aviation Regulations (14 CFR part 39) to include an airworthiness directive (AD) that is applicable to certain Boeing Model 767-200 and -300 series airplanes was published in the Federal Register on December 29, 1999 (64 FR 72967). That action proposed to require repetitive inspections to detect wear or damage of the door latches and disconnect housings in the off-wing escape slide compartments. If wear or damage is found, the action proposed to require replacement of these discrepant components with new components.

Comments

Interested persons have been afforded an opportunity to participate in the making of this amendment. Due consideration has been given to the comments received.

Support for the Proposed Rule

Two commenters support the proposed rule and indicate that they are accomplishing the requirements of this AD on their airplanes. A third commenter offers no comment on the proposed rule.

Request To Revise Wording in Proposed Rule

One commenter requests that the FAA revise certain wording in the preamble and body of the proposed rule. The commenter's suggestions and rationale are as follows:

1. Revise statement of unsafe condition throughout the AD to state that the actions specified by this AD are intended to “ensure deployment of an escape slide during an emergency evacuation and[,] additionally[,] in the case of the disconnect housing, to ensure the safety of mechanics during maintenance.” The commenter states that a broken disconnect housing could result in unexpected inflation of an off-wing slide during maintenance.

2. Revise the “Discussion” section of the proposed rule to incorporate more details about the events that prompted this AD. Specifically, state that “Worn or broken latches and broken disconnect housings have also been discovered during maintenance.”

3. Revise the “Differences Between Proposed Rule and Alert Service Bulletin” section to reference specific part numbers acceptable for installation.

4. Revise description of subject parts throughout the AD from “worn and damaged door latches and disconnect housings of the off-wing escape slide compartments” to “worn and damaged door latches and broken disconnect housings in the off-wing escape slide compartments.” The commenter states that, “To date, there are no reports of ‘worn' disconnect housings, only ‘broken' ones.”

The FAA partially concurs with the commenter's requests. The FAA concurs with the commenter's suggested changes to the statement of unsafe condition described above in item 1. Accordingly, the FAA has revised the statement of unsafe condition in the “Summary” section of this final rule.

The FAA also concurs that the commenter's suggested changes described above in items 2. and 3. are accurate; however, these sections are not restated in the final rule; thus, no change to the final rule is necessary in this regard.

The FAA does not concur that any change is necessary to the description of subject parts, as described above in item 4. The FAA considers “damage” of the disconnect housings to include broken disconnect housings. However, the FAA does concur with the commenter's suggestion to revise the words “of the off-wing escape slide compartments” to “in the off-wing escape slide compartments.” This change has been made throughout this final rule.

Request To Reference Forthcoming Terminating Action

One commenter requests that the FAA revise the proposed rule to reference a terminating action. The commenter states that the airplane manufacturer will release a new service bulletin that describes procedures for replacing disconnect housings with new, improved disconnect housings. The commenter states that such replacement is intended to eliminate the need for the repetitive inspections of the disconnect housings that would be required by the proposed AD. (However, repetitive inspections of the latches would still be necessary.) The commenter also suggests changes to the cost impact information related to adding the terminating action.

The FAA does not concur with the commenter's request. To date, the FAA has not reviewed or approved the service bulletin referenced by the commenter. Considering the degree of urgency associated with addressing the subject unsafe condition, the FAA finds that it would be inappropriate to delay issuance of this final rule until the service bulletin has been approved. However, once the service bulletin and improved parts referenced by the commenter are available, the commenter may request approval of an alternative method of compliance, in accordance with paragraph (c) of this AD. No change to the final rule is necessary in this regard.

Conclusion

After careful review of the available data, including the comments noted above, the FAA has determined that air safety and the public interest require the adoption of the rule with the changes previously described. The FAA has determined that these changes will neither increase the economic burden on any operator nor increase the scope of the AD.

Cost Impact

There are approximately 634 Model 767-200 and -300 series airplanes of the affected design in the worldwide fleet. The FAA estimates that 241 airplanes of U.S. registry will be affected by this AD, that it will take approximately 3 work hours per airplane to accomplish the required inspections, and that the average labor rate is $60 per work hour. Based on these figures, the cost impact of this AD on U.S. operators is estimated to be $43,380, or $180 per airplane, per inspection cycle.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-11-19 Boeing: Amendment 39-11767. Docket 98-NM-313-AD.

Applicability: Model 767-200 and -300 series airplanes, as listed in Boeing Alert Service Bulletin 767-25A0260, dated July 9, 1998; certificated in any category; except Model 767 series airplanes that have undergone conversion to freighter configurations, and on which the off-wing escape system has been removed or deactivated.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent non-deployment of an escape slide during an emergency evacuation, which could slow down the evacuation of the airplane and result in injury to passengers or flightcrew; and to detect damaged disconnect housings in the off-wing escape slide compartments, which could result in unexpected deployment of an escape slide during maintenance, and consequent injury to maintenance personnel; accomplish the following:

Inspections

(a) Prior to the accumulation of 6,000 total flight hours, or within 18 months after the effective date of this AD, whichever occurs later, perform a detailed visual inspection to detect wear or damage of the door latches and disconnect housings in the off-wing escape slide compartments, in accordance with Boeing Alert Service Bulletin 767-25A0260, dated July 9, 1998. Repeat the inspection thereafter at intervals not to exceed 6,000 flight hours or 18 months, whichever occurs later.

Note 2: Boeing Alert Service Bulletin 767-25A0260, dated July 9, 1998, allows repetitive inspections of a door latch having part number H2052-11 or H2052-115, provided that the latch is not worn or damaged. However, replacement of any latch having part number H2052-11 or H2052-115 with a new latch having part number H2052-13 is described as part of a modification of the escape slide compartment door latching mechanism that is specified in Boeing Alert Service Bulletin 767-25A0174, dated August 15, 1991. Accomplishment of that modification is required by AD 92-16-17, amendment 39-8327, and AD 95-08-11, amendment 39-9200. Therefore, operators should note that any latch having part number H2052-11 or H2052-115 found during an inspection required by paragraph (a) of this AD is already required to be replaced in accordance with AD 92-16-17 or AD 95-08-11, as applicable.

Note 3: Inspections and corrective actions accomplished prior to the effective date of this AD in accordance with the Validation Copy of Boeing Alert Service Bulletin 767-25A0260, dated April 28, 1998, are considered acceptable for compliance with the applicable action specified in this AD.

Replacement

(b) If any part is found to be worn or damaged during the inspections performed in accordance with paragraph (a) of this AD, prior to further flight, replace the worn or damaged part with a new part, and perform an adjustment of the off-wing escape slide system, in accordance with Boeing Alert Service Bulletin 767-25A0260, dated July 9, 1998.

Alternative Methods of Compliance

(c) An alternative method of compliance or adjustment of the compliance time that provides an acceptable level of safety may be used if approved by the Manager, Seattle Aircraft Certification Office (ACO), FAA, Transport Airplane Directorate. Operators shall submit their requests through an appropriate FAA Principal Maintenance Inspector, who may add comments and then send it to the Manager, Seattle ACO.

Note 4: Information concerning the existence of approved alternative methods of compliance with this AD, if any, may be obtained from the Seattle ACO.

Special Flight Permits

(d) Special flight permits may be issued in accordance with §§ 21.197 and 21.199 of the Federal Aviation Regulations (14 CFR 21.197 and 21.199) to operate the airplane to a location where the requirements of this AD can be accomplished.

Incorporation by Reference

(e) The actions shall be done in accordance with Boeing Alert Service Bulletin 767-25A0260, dated July 9, 1998. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on July 18, 2000.

Issued in Renton, Washington, on June 1, 2000.
Donald L. Riggin,
Acting Manager, Transport Airplane Directorate, Aircraft Certification Service.

[FR Doc. 00-14312 Filed 6-12-00; 8:45 am]

BILLING CODE 4910-13-U